DEPARTMENT OF ENERGY

Federal Energy Regulatory Commission

Combined Notice of Filings #1

Take notice that the Commission received the following electric corporate filings:

Docket Numbers: EC24-56-000.

Applicants: Burgess Biopower, LLC, North Country Generation Holdings LLC.

Description: Supplement to March 5, 2024 Joint Application for Authorization Under Section 203 of the Federal Power Act of Burgess BioPower, LLC, et al.

Filed Date: 4/3/24.

Accession Number: 20240403-5207.

Comment Date: 5 p.m. ET 4/15/24.

Docket Numbers: EC24-66-000.

Applicants: Bellflower Solar 1, LLC, Bighorn Solar 1, LLC, Black Bear Alabama Solar 1, LLC, Black Bear Alabama Solar Tenant, LLC, Cottontail Solar 2, LLC, Cottontail Solar 8, LLC, Happy Solar 1, LLC, Honeysuckle Solar, LLC, Oxbow Solar Farm 1, LLC, Sun Mountain Solar 1, LLC.

Description: Joint Application for Authorization Under Section 203 of the Federal Power Act of Bellflower Solar 1, LLC, et al.

Filed Date: 4/3/24.

Accession Number: 20240403-5210.

Comment Date: 5 p.m. ET 4/24/24.

Take notice that the Commission received the following electric rate filings:

Docket Numbers: ER24-311-001.

Applicants: Condor Energy Storage, LLC.

Description: Notice of Non-Material Change in Status of Condor Energy Storage, LLC.

Filed Date: 4/3/24.

Accession Number: 20240403-5206.

Comment Date: 5 p.m. ET 4/24/24.

Docket Numbers: ER24-377-002.

Applicants: Devon Energy Production Company, LP.

Description: Tariff Amendment: DEPC MBR Second Response Letter to be effective 12/26/2023.

Filed Date: 4/4/24.

Accession Number: 20240404-5137.

Comment Date: 5 p.m. ET 4/25/24.

Docket Numbers: ER24-842-001.

Applicants: Alabama Power Company, Georgia Power Company, Mississippi Power Company.

Description: Tariff Amendment: Alabama Power Company submits tariff filing per 35.17(b): Yellowhammer Renewable Energy (Yellowhammer Solar) LGIA Deficiency Response to be effective 12/27/2023.

Filed Date: 4/4/24.

Accession Number: 20240404-5085.

Comment Date: 5 p.m. ET 4/25/24.

Docket Numbers: ER24-1682-000.

Applicants: Eagle Point Power Generation LLC.

Description: Eagle Point Power Generation LLC requests a one-time, limited waiver of the 90-day prior notice requirement set forth in Schedule 2 of the PJM Tariff.

Filed Date: 3/29/24.

Accession Number: 20240329-5497.

Comment Date: 5 p.m. ET 4/19/24.

Docket Numbers: ER24-1694-000

Applicants: Groton BESS 1 LLC.

Description: Baseline eTariff Filing: Groton BESS 1 LLC MBR Tariff to be effective 5/1/2024.

Filed Date: 4/3/24.

Accession Number: 20240403-5196.

Comment Date: 5 p.m. ET 4/24/24.

Docket Numbers: ER24-1695-000.

Applicants: Groton BESS 2 LLC.

Description: Baseline eTariff Filing: Groton BESS 2 LLC MBR Tariff to be effective 5/1/2024.

Filed Date: 4/3/24.

Accession Number: 20240403-5197.

Comment Date: 5 p.m. ET 4/24/24.

Docket Numbers: ER24-1696-000.

Applicants: Holden BESS 1 LLC.

Description: Baseline eTariff Filing: Holden BESS 1 LLC MBR Tariff to be effective 5/1/2024.

Filed Date: 4/3/24.

Accession Number: 20240403-5200.

Comment Date: 5 p.m. ET 4/24/24.

Docket Numbers: ER24-1697-000.

Applicants: AES Westwing II ES, LLC.

Description: Baseline eTariff Filing: AES Westwing II ES, LLC MBR Tariff to be effective 4/5/2024.

Filed Date: 4/4/24.

Accession Number: 20240404-5067.

Comment Date: 5 p.m. ET 4/25/24.

Docket Numbers: ER24-1698-000.

Applicants: AES ES Alamitos 2, LLC.

Description: Baseline eTariff Filing: AES ES Alamitos 2, LLC MBR Tariff to be effective 4/5/2024.

Filed Date: 4/4/24.

Accession Number: 20240404-5068.

Comment Date: 5 p.m. ET 4/25/24.

Docket Numbers: ER24-1699-000.

Applicants: PJM Interconnection, L.L.C.

Description: 205(d) Rate Filing: Amendment to WMPA No. 6426 AD1-105 (AA_MCD) to be effective 6/4/2024.

Filed Date: 4/4/24.

Accession Number: 20240404-5070.

Comment Date: 5 p.m. ET 4/25/24.

Docket Numbers: ER24-1700-000.

Applicants: Alabama Power Company, Georgia Power Company, Mississippi Power Company.

Description: 205(d) Rate Filing: Alabama Power Company submits tariff filing per 35.13(a)(2)(iii): EDF Renewables (Rock House Solar) LGIA Amendment Filing to be effective 3/22/2024.

Filed Date: 4/4/24.

Accession Number: 20240404-5090.

Comment Date: 5 p.m. ET 4/25/24.

Docket Numbers: ER24-1701-000.

Applicants: California Independent System Operator Corporation.

Description: 205(d) Rate Filing: 2024-04-04 Revision to TCA—Adding DCR Transmission to be effective 6/5/2024.

Filed Date: 4/4/24.

Accession Number: 20240404-5095.

Comment Date: 5 p.m. ET 4/25/24.

Docket Numbers: R24-1702-000.

Applicants: PJM Interconnection, L.L.C.

Description: 205(d) Rate Filing: Original ISA, Service Agreement No. 7200; AF1-114 to be effective 3/5/2024.

Filed Date: 4/4/24.

Accession Number: 20240404-5108.

Comment Date: 5 p.m. ET 4/25/24.

Docket Numbers: ER24-1703-000.

Applicants: Entergy Mississippi, LLC.

Description: 205(d) Rate Filing: Harvest Gold Solar, LLC, LBA Agreement to be effective 4/5/2024.

Filed Date: 4/4/24.

Accession Number: 20240404-5149.

Comment Date: 5 pm ET 4/25/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: April 4, 2024.
Debbie-Anne A. Reese,
Acting Secretary.

[FR Doc. 2024-07599 Filed 4-9-24; 8:45 am]

BILLING CODE 6717-01-P